DEPARTMENT OF TRANSPORTATION

National Highway Traffic Safety Administration

[U.S. DOT Docket Number NHTSA-2008-0002]

Reports, Forms and Recordkeeping Requirements

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 22, 2008 (73 FR. 3799).

DATES: Comments must be submitted to OMB on or before April 28, 2008.

ADDRESSES: Send comments to the Office of Information and Regulatory Affairs, OMB, 725 17th Street, NW., Washington, DC 20503, Attention: Desk Officer.

FOR FURTHER INFORMATION CONTACT: Jennifer Timian, Recall Management Division (NVS-215), Room W46-324, NHTSA, 1200 New Jersey Ave., Washington, DC 20590. Telephone: (202) 366-0209.

SUPPLEMENTARY INFORMATION:

National Highway Traffic Safety Administration

Title: Petitions for Hearings on Notification and Remedy of Defects.

OMB Number: 2127-0039.

Type of Request: Revision of a currently approved information collection.

Affected Public: Businesses or individuals.

Abstract: Sections 30118(e) and 30120(e) of Title 49 of the United States Code specify that any interested person may petition NHTSA to hold a hearing to determine whether a manufacturer of motor vehicles or motor vehicle equipment has met its obligation to notify owners, purchasers, and dealers of vehicles or equipment of a safety-related defect or noncompliance with a Federal motor vehicle safety standard in the manufacturer's products and to remedy that defect or noncompliance.

To implement these statutory provisions, NHTSA promulgated 49 CFR Part 557, Petitions for Hearings on Notification and Remedy of Defects. Part 557 establishes procedures providing for the submission and disposition of petitions for hearings on the issues of whether the manufacturer has met its obligation to notify owners, purchasers, and dealers of safety-related defects or noncompliances, or to remedy such defect or noncompliance free of charge.

Estimated annual burden: 1 hour per year (1 petition per year requiring 1 hour of effort).

Number of respondents: 1.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A comment to OMB is most effective if OMB receives it within 30 days of publication.

Issued on: March 25, 2008.
Kathleen C. DeMeter,
Director, Office of Defects Investigation.

[FR Doc. E8-6418 Filed 3-27-08; 8:45 am]

BILLING CODE 4910-59-P